DEPARTMENT OF HEALTH AND HUMAN SERVICES

National Institutes of Health

Center for Scientific Review; Amended Notice of Meeting

Notice is hereby given of a change in the meeting of the Center for Scientific Review Special Emphasis Panel, September 11, 2009, 11 a.m. to September 11, 2009, 12 p.m., National Institutes of Health, 6701 Rockledge Drive, Bethesda, MD 20892, which was published in the Federal Register on August 31, 2009, 74 FR 44859.

The meeting will be held September 14, 2009, from 1:30 p.m. to 3 p.m. The meeting location remains the same. The meeting is closed to the public.

Dated: September 3, 2009.
Jennifer Spaeth,
Director, Office of Federal Advisory Committee Policy.

[FR Doc. E9-22015 Filed 9-14-09; 8:45 am]

BILLING CODE 4140-01-M